DEPARTMENT OF HEALTH AND HUMAN SERVICES

Health Resources and Services Administration

Notice of Filing of Annual Report of Federal Advisory Committee

Notice is hereby given that pursuant to section 13 of Public Law 92-463, the fiscal year 2003 annual report for the following Health Resources and Services Administration's (HRSA) Federal advisory committee has been filed with the Library of Congress: Maternal and Child Health Research Grants Review Committee.

Copies are available to the public for inspection at the Library of Congress, Newspaper and Current Periodical Reading Room in the James Madison Memorial Building, Room LM-133 (entrance on Independence Avenue, between First and Second Streets, SE., Washington, DC).

Copies may be obtained from: Ms. Stella M. Yu, Division of Research, Training and Education, Maternal and Child Health Bureau, HRSA, Parklawn Building, Room 18A-55, 5600 Fishers Lane, Rockville, Maryland 20857, Telephone 301-443-2340.

Dated: December 19, 2003.
Tina M. Cheatham,
Acting Director, Division of Policy Review and Coordination.

[FR Doc. 03-31773 Filed 12-23-03; 8:45 am]

BILLING CODE 4165-15-P